DEPARTMENT OF COMMERCE

International Trade Administration

[A-570-126]

Non-Refillable Steel Cylinders From the People's Republic of China: Postponement of Preliminary Determination in the Less-Than-Fair-Value Investigation

AGENCY: Enforcement and Compliance, International Trade Administration, Department of Commerce.

DATES: Applicable August 26, 2020.

FOR FURTHER INFORMATION CONTACT: Darla Brown at (202) 482-1791 or Katherine Sliney at (202) 482-2437, AD/CVD Operations, Office III, Enforcement and Compliance, International Trade Administration, U.S. Department of Commerce, 1401 Constitution Avenue NW, Washington, DC 20230.

SUPPLEMENTARY INFORMATION:

Background

On April 16, 2020, the Department of Commerce (Commerce) initiated a less-than-fair-value (LTFV) investigation of imports of non-refillable steel cylinders from the People's Republic of China (China).¹ Currently, the preliminary determination is due no later than September 3, 2020.

¹ See Certain Non-Refillable Steel Cylinders from the People's Republic of China: Initiation of Less-Than-Fair-Value Investigation, 85 FR 22402 (April 22, 2020).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 7, 2020, the petitioner, Worthington Industries, submitted a timely request that Commerce postpone the preliminary determination in this LTFV investigation.² The petitioner stated that a postponement is necessary to provide Commerce with adequate time to solicit additional information from the respondents to clarify their responses, to issue supplemental questionnaires and review respondents' supplemental questionnaire responses, and to allow parties to gather information on valuing factors of production.³

² See Petitioner's Letter, “Non-Refillable Steel Cylinders from China—Petitioners' Request for Postponement of Preliminary Antidumping Determination,” dated August 7, 2020.

³ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than October 23, 2020.⁴ In accordance with section 735(a)(1) of the Act and 19 CFR 351.210(b)(1), the deadline for the final determination of this investigation will continue to be 75 days after the date of the preliminary determination, unless postponed at a later date.

⁴ Sanjiang Kay Yuan Co. Ltd (SKY) contends that Commerce “has consistently used the date of publication of notices in the Federal Register” to set the deadline for its preliminary determinations and postponed preliminary determinations, under 19 CFR 351.205(b)(1) and (b)(2). See SKY's Letter, “Certain Non-Refillable Steel Cylinders from China; A-570-126; Comment on Request to Extend Preliminary Determination,” dated August 7, 2020. However, Commerce determines that October 23, 2020 is the appropriate deadline for the postponed preliminary determination, which is based on the signature date of the initiation of the investigation. See, e.g., Certain Vertical Shaft Engines Between 99cc and Up to 225cc, and Parts Thereof from the People's Republic of China: Postponement of Preliminary Determination in the Less-Than-Fair-Value Investigation, 85 FR 47357 (August 5, 2020); see also Certain Corrosion Inhibitors from the People's Republic of China: Postponement of Preliminary Determination in the Less-Than-Fair Value Investigation, 85 FR 36376 (June 16, 2020).

Notification to Interested Parties

This notice is issued and published pursuant to section 733(c)(2) of the Act and 19 CFR 351.205(f)(1).

Dated: August 14, 2020.
Jeffrey I. Kessler,
Assistant Secretary for Enforcement and Compliance.

[FR Doc. 2020-18794 Filed 8-25-20; 8:45 am]

BILLING CODE 3510-DS-P